FEDERAL COMMUNICATIONS COMMISSION

Privacy Act System of Records

AGENCY: Federal Communications Commission (FCC, Commission, or the Agency)

ACTION: Notice; one new Privacy Act system of records; two deleted systems of records.

SUMMARY: Pursuant to subsection (e)(4) of the Privacy Act of 1974, as amended (“Privacy Act”), 5 U.S.C. 552a, the FCC proposes to add one new, consolidated system of records, FCC/OMD-28, “Time and Attendance Records.” FCC/OMD-28, “Time and Attendance Records” will incorporate the information, i.e., personally identifiable information (PII), presently covered by FCC/OMD-14, “Pay and Leave Records,” and FCC/OMD-21, “Garnishment and Levy of Wages,” and also add new and/or updated information that pertains to the responsibilities of the FCC's Human Resources Management (the Agency) division of the Office of Managing Director (OMD). Upon approval of FCC/OMD-30, the Commission will cancel FCC/OMD-14 and FCC/OMD-21. The purposes for adding this new system of records, FCC/OMD-28, “Time and Attendance Records,” are for the Agency to use the records in this system primarily to prepare time and attendance records and to certify hours worked/leave earned and leave taken and to administer the FCC's time and attendance/payroll program. These records may also be used to validate and verify hours worked/leave taken/credit hours claimed and to ensure appropriate recordkeeping as well as appropriate expenditure of Federal funds. The new system of records will consolidate FCC/OMD-14 and FCC/OMD-21 that the Agency currently uses so that all the personally identifiable information (PII) in the two information systems are now housed in a single Agency system of records.

DATES: In accordance with subsections (e)(4) and (e)(11) of the Privacy Act, any interested person may submit written comments concerning the alteration of this system of records on or before September 19, 2011. The Office of Information and Regulatory Affairs (OIRA), Office of Management and Budget (OMB), which has oversight responsibility under the Privacy Act to review the system of records, and Congress may submit comments on or before September 28, 2011. The proposed new system of records will become effective on September 28, 2011 unless the FCC receives comments that require a contrary determination. The Commission will publish a document in the Federal Register notifying the public if any changes are necessary. As required by 5 U.S.C. 552a(r) of the Privacy Act, the FCC is submitting reports on this proposed new system to OMB and Congress.

ADDRESSES: Address comments to Leslie F. Smith, Privacy Analyst, Performance Evaluation and Records Management (PERM), Room 1-C216, Federal Communications Commission (FCC), 445 12th Street, SW., Washington, DC 20554, (202) 418-0217, or via the Internet at Leslie.Smith@fcc.gov.

FOR FURTHER INFORMATION CONTACT: Contact Leslie F. Smith, Performance Evaluation and Records Management (PERM), Room 1-C216, Federal Communications Commission, 445 12th Street, SW., Washington, DC 20554, (202) 418-0217 or via the Internet at Leslie.Smith@fcc.gov.

SUPPLEMENTARY INFORMATION: As required by the Privacy Act of 1974, as amended, 5 U.S.C. 552a(e)(4) and (e)(11), this document sets forth notice of this proposed new system of records maintained by the FCC. The FCC previously gave complete notice of the two systems of records, FCC/OMD-14, “Pay and Leave” and FCC/OMD-21, “Garnishment and Levy of Wages,” which the Commission intends to cancel upon both the approval and deployment of FCC/OMD-28, “Time and Attendance Records,” as referenced under this Notice by publication in the Federal Register on April 5, 2006 (71 FR 17234, 17257 and 17266 respectively). This notice is a summary of the more detailed information about the proposed new system of records, which may be viewed at the location given above in the ADDRESSES section. The purposes for adding this new system of records, FCC/OMD-28, “Time and Attendance Records,” are for the Agency to use the records in this system of records primarily to prepare time and attendance records and to certify hours worked/leave earned and leave taken and to administer the FCC's time and attendance/payroll program. These records may also be used to validate and verify hours worked/leave taken/credit hours claimed and to ensure appropriate recordkeeping as well as appropriate expenditure of Federal funds. The new system of records will consolidate FCC/OMD-14 and FCC/OMD-21 that the Agency currently uses so that all the PII data in the two information systems are now housed in a single Agency system of records.

This notice meets the requirement documenting the change to the systems of records that the FCC maintains, and provides the public, OMB, and Congress with an opportunity to comment.

FCC/OMD-14

SYSTEM NAME:

Time and Attendance Records.

SECURITY CLASSIFICATION:

The FCC's Security Operations Center (SOC) has not assigned a security classification to this system of records.

SYSTEM LOCATION:

Human Resources Management (HRM), Office of Managing Director (OMD), Federal Communications Commission (FCC), 445 12th Street, SW., Washington, DC 20554.

CATEGORIES OF INDIVIDUALS COVERED BY THE SYSTEM:

The categories of individuals in this system consist of current and former employees of the Federal Communications Commission (FCC).

CATEGORIES OF RECORDS IN THE SYSTEM:

The categories of records in this system are used:

1. To administer the pay, leave, and garnishment requirements for FCC employees: FCC employee's name, work and home addresses, Social Security Number (SSN), bureau/office, timekeeper number, salary, pay plan, number of hours worked, leave accrual rate, usage, and balances, and associated supporting documentation such as Request for Leave, Credit Hours earned, Compensatory and Overtime hours requested and earned, time off awards credited, leave transfer requests, leave donor forms, medical documentation to support advance of sick leave and leave transfer, tax, payroll allotment, and direct deposit forms, etc; and

2. To administer garnishment and levy orders: Orders served upon the FCC for implementation, correspondence, and memorandum issued by a court of competent jurisdiction or by another government entity authorized to issue such an order for a FCC employee subject thereto.

AUTHORITY FOR MAINTENANCE OF THE SYSTEM:

1. To administer the pay and leave, and garnishment records: 5 U.S.C. 5501 et seq., 5525 et seq., 5701 et seq. and 6301 et seq.; 28 U.S.C. 66a; 44 U.S.C. 2801 and 2802; 5 U.S.C. 6328-6340; Federal Employees Leave Sharing Act of 1988 and Amendments of 1993 (Pub. L. 103-103 and Pub. L. 100-566); Executive Order 9397, November 22, 1943; Pub. L. 100-202, Pub. L. 100-440, Pub. L. 101-509, and Personal Responsibility and Work Opportunity Reconciliation Act of 1996 (Pub. L. 104-193); and

2. To administer the garnishment and levy orders: 5 U.S.C. 5520a; 10 U.S.C. 1408; and 42 U.S.C. 659.

PURPOSE(S):

The Human Resources Management (HRM) uses the records in this system to:

1. Authorize payroll deductions, including but not limited to allotments, charitable contributions, and union dues;

2. Collect indebtedness, including but not limited to overpayment of salary and unpaid Internal Revenue Service (IRS) taxes and/or state taxes, etc.;

3. Pay income tax obligations, including but not limited to the Internal Revenue Service (IRS) and states' revenue departments;

4. Authorize the U.S. Department of the Agriculture's (USDA) National Finance Center (NFC) to issue salary checks;

5. Report gross wages and compensation information, including but not limited to unemployment compensation;

6. Pay any uncollected compensation, including but not limited to lump-sum payments of leave upon an employee's separation, such as retirement and resignation, or due to the beneficiaries of a deceased employee;

7. Determine leave balances, including but not limited to accrued and used leave, sick leave, eligibility for and/or authorize donations for the leave transfer program, and other types of leave categories;

8. Produce summary descriptive statistics and analytical studies in support of the FCC's Human Resource Management (HRM) functions;

9. Respond to general requests for statistical information (without disclosing any personally identifiable information (PII)) under the Freedom of Information Act (FOIA);

10. Locate specific individuals for Human Resource Management (HRM) functions; and

11. Direct the FCC's implementation of garnishment and levy orders served upon the Commission for implementation, correspondence, and memorandum, issued by a court of competent jurisdiction or by another government entity authorized to issue such an order for a Commission employee subject thereto.

ROUTINE USES OF RECORDS MAINTAINED IN THE SYSTEM, INCLUDING CATEGORIES OF USERS AND THE PURPOSES OF SUCH USES:

Information about individuals in this system of records may routinely be disclosed under the following conditions:

1. Compliance with Welfare Reform Requirements—Names, Social Security Numbers, home addresses, dates of birth, dates of hire, quarterly earnings, employer identifying information, and state of hire of employees may be disclosed to the Office of Child Support Enforcement, Administration for Children and Families, Department of Health and Human Services for the purposes of locating individuals to establish paternity, establishing and modifying orders of child support, identifying sources of income, and for other child support enforcement actions as required by the Personal Responsibility and Work Opportunity Reconciliation Act;

2. Adjudication and Litigation—Where by careful review, the agency determines that the records are both relevant and necessary to litigation and the use of such records is deemed by the agency to be for a purpose that is compatible with the purpose for which the agency collected the records, these records may be used by a court or adjudicative body in a proceeding when: (a) the agency or any component thereof; or (b) any employee of the agency in his or her official capacity; or (c) any employee of the agency in his or her individual capacity where the agency has agreed to represent the employee; or (d) the United States Government is a party to litigation or has an interest in such litigation;

3. Law enforcement and Investigation—Where there is an indication of a violation or potential violation of a statute, regulation, rule, or order, records from this system may be shared with appropriate Federal, State, or local authorities either for purposes of obtaining additional information relevant to a FCC decision or for referring the record for investigation, enforcement, or prosecution by another agency;

4. Congressional Inquiries—When requested by a Congressional office in response to an inquiry by an individual made to the Congressional office for the individual's own records;

5. Government-wide Program Management and Oversight—When requested by the National Archives and Records Administration (NARA) for the purpose of records management inspections conducted under authority of 44 U.S.C. 2904 and 2906; when the U.S. Department of Justice (DOJ) is contacted in order to obtain that department's advice regarding disclosure obligations under the Freedom of Information Act; or when the Office of Management and Budget (OMB) is contacted in order to obtain that office's advice regarding obligations under the Privacy Act;

6. Employment, Clearances, Licensing, Contract, Grant, or other Benefits Decisions by the Agency—Disclosure may be made to a Federal, State, local, foreign, tribal, or other public agency maintaining civil, criminal, or other relevant enforcement records, or other pertinent records, or to another public authority or professional organization, if necessary to obtain information relevant to an investigation concerning the retention of an employee or other personnel action (other than hiring), the retention of a security clearance, the letting of a contract, or the issuance or retention of a grant or other benefit;

7. Employment, Clearances, Licensing, Contract, Grant, or other Benefits Decisions by Other than the Agency—Disclosure may be made to a Federal, State, local, foreign, tribal, or other public authority of the fact that this system of records contains information relevant to the retention of an employee, the retention of a security clearance, the letting of a contract, or the issuance or retention of a license, grant, or other benefit. The other agency or licensing organization may then make a request supported by the written consent of the individual for the entire records if it so chooses. No disclosure will be made unless the information has been determined to be sufficiently reliable to support a referral to another office within the agency or to another Federal agency for criminal, civil, administrative, personnel, or regulatory action;

8. Labor Relations—A record from this system may be disclosed to officials of labor organizations recognized under 5 U.S.C. Chapter 71 upon receipt of a formal request and in accord with the conditions of 5 U.S.C. 7114 when relevant and necessary to their duties of exclusive representation concerning personnel policies, practices, and matters affecting working conditions;

9. Financial Obligations under the Debt Collection Act—A record from this system may be disclosed to other Federal agencies for the purpose of collecting and reporting on delinquent debts as authorized by the Debt Collection Act of 1982 or the Debt Collection Improvement Act of 1996. A record from this system may be disclosed to any Federal, state, or local agency to conduct an authorized computer matching program in compliance with the Privacy Act of 1974, as amended, to identify and locate individuals who are delinquent in their repayment of certain debts owed to the U.S. Government. A record from this system may be used to prepare information on items considered income for taxation purposes to be disclosed to Federal, State, and local governments;

10. Financial Obligations Required by the National Finance Center et al.—When the National Finance Center (the FCC's designated payroll office), the Department of the Treasury Debt Management Services, and/or a current employer to effect a salary, IRS and/or state tax refund(s), or administrative offset to satisfy an indebtedness; and to Federal agencies to identify and locate former employees for the purposes of collecting such indebtedness, including through administrative, salary, or tax refund offsets. Identifying and locating former employees, and the subsequent referral to such agencies for offset purposes, may be accomplished through authorized computer matching programs. Disclosures will be made only when all procedural steps established by the Debt Collection Act of 1982, as amended by the Debt Collection Improvement Act of 1996 or the Computer Matching and Privacy Protection Act of 1988 as appropriate, have been taken;

11. Breach Notification—A record from this system may be disclosed to appropriate agencies, entities, and persons when (1) the Commission suspects or has confirmed that the security or confidentiality of information in the system of records has been compromised; (2) the Commission has determined that as a result of the suspected or confirmed compromise there is a risk of harm to economic or property interests, identity theft or fraud, or harm to the security or integrity of this system or other systems or programs (whether maintained by the Commission or another agency or entity) that rely upon the compromised information; and (3) the disclosure made to such agencies, entities, and persons is reasonably necessary to assist in connection with the Commission's efforts to respond to the suspected or confirmed compromise and prevent, minimize, or remedy such harm; and

12. Pay and Leave Disclosures—A record from this system may be disclosed to any source from which additional information is requested relevant to an FCC determination concerning an individual's pay or leave to the extent necessary to identify the individual, inform the source of the purpose(s) of the requests, and to identify the type of information requested.

In each of these cases, the FCC will determine whether disclosure of the records is compatible with the purpose for which the records were collected.

DISCLOSURE TO CONSUMER REPORTING AGENCIES:

Disclosures may be made from this system to consumer reporting agencies as defined in the Fair Credit Reporting Act, 15 U.S.C. 1681a(f), or the Federal Claims Collection Act of 1966, 28 U.S.C. 3701(a)(3).

POLICIES AND PRACTICES FOR STORING, RETRIEVING, ACCESSING, RETAINING, AND DISPOSING OF RECORDS IN THE SYSTEM:

STORAGE:

Information includes paper document, records, and files that are stored in file cabinets, and electronic records, files and data that are stored on the FCC's network computer database.

RETRIEVABILITY:

Records are indexed by the FCC's employee's name.

SAFEGUARDS:

The paper documents, files, and records, which are stored in file cabinets in the HRM office suite, are locked when not in use and/or at the end of the business day. These file cabinets are accessible only via card-coded security doors. Access is restricted to authorized HRM supervisors, staff, and contractors.

The electronic records, files, and data are housed in the FCC's computer network databases. Access to the electronic files is restricted to authorized HRM supervisors, staff, and contractors. Authorized staff and contractors in the FCC's Information Technology Center (ITC), who manage the FCC's computer network databases, also have access to the electronic files. Other FCC employees and contractors may be granted access on a “need-to-know” basis. The FCC's computer network databases are protected by the FCC's security protocols, which include controlled access, passwords, and other security features. The electronic information is backed-up routinely. Back-up tapes are stored on-site and at a secured, off-site location.

RETENTION AND DISPOSAL:

1. For Pay and Leave Records—The FCC maintains and disposes of these records in accordance with General Records Schedule 2 (GRS 2) issued by the National Archives and Records Administration (NARA). Under the GRS 2, records are retained for various periods. Generally, the records are kept from 3 to 56 years, depending on the type of record involved.

2. For Garnishment and Levy of Wages Records—The FCC retains these records until the expiration of the garnishment or levy order or until the employee leaves the Commission, whichever comes first. In some instances that are related to a garnishment or levy order, the information is destroyed three years after the termination of the garnishment or levy order.

Disposal of the paper documents, records, and files is by shredding. Electronic records are destroyed physically (electronic storage media) or by electronic erasure.

Individuals may request a copy of the (document) disposition instructions from the FCC Privacy Act Officer or access GRS 2 directly at http://www.archives.gov/records-mgmt/ardor/grs02.html.

SYSTEM MANAGER(S) AND ADDRESS:

Human Resources Management (HRM), Office of Managing Director (OMD), Federal Communications Commission (FCC), 445 12th Street, SW., Washington, DC 20554.

NOTIFICATION PROCEDURE:

Address inquiries to the Human Resources Management (HRM), Office of Managing Director (OMD), Federal Communications Commission (FCC), 445 12th Street, SW., Washington, DC 20554.

RECORD ACCESS PROCEDURES:

Address inquiries to the Human Resources Management (HRM), Office of Managing Director (OMD), Federal Communications Commission (FCC), 445 12th Street, SW., Washington, DC 20554.

CONTESTING RECORD PROCEDURES:

Address inquiries to the Human Resources Management (HRM), Office of Managing Director (OMD), Federal Communications Commission (FCC), 445 12th Street, SW., Washington, DC 20554.

RECORD SOURCE CATEGORIES:

The sources of the records in this system are FCC employees and FCC managers, bankruptcy courts, state domestic relations courts, state public health and welfare departments or agencies, Internal Revenue Service, and intra-agency memoranda.

EXEMPTIONS CLAIMED FOR THE SYSTEM:

None.

Federal Communications Commission.
Bulah P. Wheeler,
Deputy Manager, Office of the Secretary, Office of Managing Director.

[FR Doc. 2011-21246 Filed 8-18-11; 8:45 am]

BILLING CODE 6712-01-P